DEPARTMENT OF TRANSPORTATION

Federal Highway Administration

Environmental Impact Statement: San Joaquin County, CA

AGENCY: Federal Highway Administration (FHWA), DOT.

ACTION: Revised Notice of Intent.

SUMMARY: The FHWA is issuing this notice to advise the public that the Notice of Intent, to prepare an Environmental Impact Statement (EIS) for the proposed South Stockton Six-Lane Project, on State Route 99, in San Joaquin County, California will be withdrawn; and an Environmental Assessment (EA) in lieu of an EIS is being prepared for this proposed highway project.

FOR FURTHER INFORMATION CONTACT: Dominic Hoang, Highway Engineer, FHWA, California Division, 650 Capitol Mall, Suite 4-100, Sacramento, CA 95814-4708; weekdays 7 a.m.-4 p.m. (Pacific time); telephone: (916) 498-5002; e-mail: dominic.hoang@fhwa.dot.gov. Gail Miller, Senior Environmental Planner, Caltrans, 2015 E. Shields Avenue, #100, Fresno, CA 93726; weekdays 8 a.m.-5 p.m. (Pacific time); telephone: (916) 243-8274; e-mail: gail_miller@dot.ca.gov.

SUPPLEMENTARY INFORMATION: The FHWA, in cooperation with Caltrans, conducted studies of the potential environmental impacts associated with the proposed highway project to widen a three-mile stretch of State Route 99 from four lanes to six lanes, from 0.4 mile north of the Arch Road Interchange to 0.1 mile south of State Route 4 West in Stockton, San Joaquin County, California. During the course of conducting these studies, it was identified that many of the potential costly environmental impacts that led to issuing the Notice of Intent could be avoided by adding the additional lanes to the existing median, instead of to the outside of the existing freeway where residents and businesses are built up close to the roadway. Additional design changes were identified to avoid or minimize potential impacts by further reducing the amount of right-of-way needed to construct the project. Therefore, the FHWA has determined that an EA would be the appropriate environmental document for the project, and that the Notice of Intent previously issued on January 29, 2002 on the Federal Register, should be withdrawn.

The EA will be available for public inspection prior to a public hearing, anticipated to be held in the Spring of 2008. Comments or questions concerning this proposed action and the determination that an EA is the proper environmental document should be directed to the FHWA or Caltrans at the addresses provided above.

(Catalog of Federal Domestic Assistance Program Number 20.205, Highway Research Planning and Construction. The regulations implementing Executive Order 12372 regarding intergovernmental consultation on federal programs and activities apply to this program.)

Issued on: March 6, 2008.
Nancy Bobb,
Director, State Programs, Federal Highway Administration, Sacramento, California.

[FR Doc. E8-5010 Filed 3-12-08; 8:45 am]

BILLING CODE 4910-22-P